DEPARTMENT OF ENERGY

Federal Energy Regulatory Commission

Combined Notice of Filings #1

August 27, 2010.

Take notice that the Commission received the following electric corporate filings:

Docket Numbers: EC10-86-000.

Applicants: NRG South Central Generating LLC, CottonWood Energy Company LP.

Description: Cottonwood Energy Company LP submits application for authorization under Section 203 of the Federal Power Act, etc.

Filed Date: 08/26/2010.

Accession Number: 20100827-0205.

Comment Date: 5 p.m. Eastern Time on Thursday, September 16, 2010.

Take notice that the Commission received the following exempt wholesale generator filings:

Docket Numbers: EG10-38-000.

Applicants: CalRENEW-1 LLC.

Description: Notice of self certification of exempt wholesale generator status re CalRenew-1 LLC.

Filed Date: 08/27/2010.

Accession Number: 20100827-0028.

Comment Date: 5 p.m. Eastern Time on Friday, September 17, 2010.

Take notice that the Commission received the following electric rate filings:

Docket Numbers: ER00-2918-020; ER01-1654-023; ER01-556-019; ER10-346-006; ER10-662-002; ER02-2567-020; ER04-485-018; ER05-261-013; ER05-728-013; ER08-537-002; ER08-860-002; ER99-2948-021.

Applicants: Constellation Energy Commodities Group, R.E. Ginna Nuclear Power Plant, LLC, Constellation Pwr Source Generation LLC, Constellation NewEnergy, Inc., Nine Mile Point Nuclear Station, LLC, Safe Harbor Water Power Corporation, Baltimore Gas & Electric Company, Handsome Lake Energy, LLC, Constellation Energy Commodities Group M, CER Generation, LLC, Calvert Cliffs Nuclear Power Plant, LLC, CER Generation II, LLC.

Description: Notice of change in status and Q2 2010 land acquisition report of Baltimore Gas and Electric Company, et al.

Filed Date: 07/27/2010.

Accession Number: 20100727-5077.

Comment Date: 5 p.m. Eastern Time on Friday, September 17, 2010.

Docket Numbers: ER10-1651-001.

Applicants: Golden State Water Company.

Description: Golden State Water Company submits tariff filing per 35: Triennial Market Power Update to be effective 6/30/2010.

Filed Date: 08/27/2010.

Accession Number: 20100827-5022.

Comment Date: 5 p.m. Eastern Time on Friday, September 17, 2010.

Docket Numbers: ER10-2030-001.

Applicants: PJM Interconnection, LLC.

Description: PJM Interconnection, LLC submits instant errata filing to correct a typographical error in its 7/28/10 filing providing notice of cancellation of Original Service Agreement 1548 etc.

Filed Date: 08/26/2010.

Accession Number: 20100827-0204.

Comment Date: 5 p.m. Eastern Time on Thursday, September 16, 2010.

Docket Numbers: ER10-2415-000.

Applicants: Midwest Independent Transmission System.

Description: Midwest Independent Transmission System Operator, Inc. submits tariff filing per 35.13(a)(2)(iii): Section 7 Filing to be effective 10/26/2010.

Filed Date: 08/26/2010.

Accession Number: 20100826-5112.

Comment Date: 5 p.m. Eastern Time on Thursday, September 16, 2010.

Docket Numbers: ER10-2416-000.

Applicants: Southwest Power Pool, Inc.

Description: Southwest Power Pool, Inc. submits tariff filing per 35.13(a)(2)(iii): 2041 Kansas City Board of Public Utilities PTP to be effective 8/1/2010.

Filed Date: 08/26/2010.

Accession Number: 20100826-5116.

Comment Date: 5 p.m. Eastern Time on Thursday, September 16, 2010.

Docket Numbers: ER10-2417-000.

Applicants: Exxon Mobil Generators.

Description: Exxon Mobil Generators submits its baseline filing, FERC Electric Tariff, First Revised Volume No 1 pursuant to Order No 714, to be effective 8/26/2010.

Filed Date: 08/27/2010.

Accession Number: 20100827-5009.

Comment Date: 5 p.m. Eastern Time on Friday, September 17, 2010.

Docket Numbers: ER10-2418-000.

Applicants: Georgia-Pacific Companies.

Description: Georgia-Pacific Companies submits the baseline filing, FERC Electric Tariff, First Revised Volume No 1 pursuant to Order No 714, to be effective 8/26/2010.

Filed Date: 08/27/2010.

Accession Number: 20100827-5010.

Comment Date: 5 p.m. Eastern Time on Friday, September 17, 2010.

Docket Numbers: ER10-2419-000.

Applicants: U.S. Gas & Electric, Inc.

Description: U.S. Gas & Electric, Inc. submits tariff filing per 35.12: USGE Baseline Tariff to be effective 8/27/2010.

Filed Date: 08/27/2010.

Accession Number: 20100827-5040.

Comment Date: 5 p.m. Eastern Time on Friday, September 17, 2010.

Docket Numbers: ER10-2420-000.

Applicants: ESPI New England, Inc.

Description: ESPI New England, Inc. submits tariff filing per 35.12: ESPI New England FERC Tariff to be effective 8/27/2010.

Filed Date: 08/27/2010.

Accession Number: 20100827-5044.

Comment Date: 5 p.m. Eastern Time on Friday, September 17, 2010.

Docket Numbers: ER10-2421-000.

Applicants: Energy Services Providers, Inc.

Description: Energy Services Providers, Inc. submits tariff filing per 35.12: Energy Services Providers FERC Tariff to be effective 8/27/2010.

Filed Date: 08/27/2010.

Accession Number: 20100827-5046.

Comment Date: 5 p.m. Eastern Time on Friday, September 17, 2010.

Docket Numbers: ER10-2422-000.

Applicants: Rocky Mountain Power.

Description: Rocky Mountain Power submits tariff filing per 35.12: Rocky Mountain Power MBR Tariff to be effective 8/27/2010.

Filed Date: 08/27/2010.

Accession Number: 20100827-5048.

Comment Date: 5 p.m. Eastern Time on Friday, September 17, 2010.

Docket Numbers: ER10-2423-000.

Applicants: Flat Rock Windpower LLC.

Description: Flat Rock Windpower LLC submits tariff filing per 35.12: Flat Rock Windpower LLC MBR Tariff to be effective 8/27/2010.

Filed Date: 08/27/2010.

Accession Number: 20100827-5049.

Comment Date: 5 p.m. Eastern Time on Friday, September 17, 2010.

Docket Numbers: ER10-2424-000.

Applicants: Rail Splitter Wind Farm, LLC.

Description: Rail Splitter Wind Farm, LLC submits tariff filing per 35.12: Rail Splitter Wind Farm, LLC MBR Tariff to be effective 8/27/2010.

Filed Date: 08/27/2010.

Accession Number: 20100827-5063.

Comment Date: 5 p.m. Eastern Time on Friday, September 17, 2010.

Docket Numbers: ER10-2425-000.

Applicants: Pioneer Prairie Wind Farm I, LLC.

Description: Pioneer Prairie Wind Farm I, LLC submits tariff filing per 35.12: Pioneer Prairie Wind Farm I, LLC MBR Tariff to be effective 8/26/2010.

Filed Date: 08/26/2010.

Accession Number: 20100826-5140.

Comment Date: 5 p.m. Eastern Time on Thursday, September 16, 2010.

Docket Numbers: ER10-2426-000.

Applicants: Sagebrush Power Partners, LLC.

Description: Sagebrush Power Partners, LLC submits tariff filing per 35.12: Sagebrush Power Partners, LLC MBR Tariff to be effective 8/27/2010.

Filed Date: 08/27/2010.

Accession Number: 20100827-5070.

Comment Date: 5 p.m. Eastern Time on Friday, September 17, 2010.

Docket Numbers: ER10-2427-000.

Applicants: Telocaset Wind Power Partners, LLC.

Description: Telocaset Wind Power Partners, LLC submits tariff filing per 35.12: Telocaset Wind Power Partners, LLC MBR Tariff to be effective 8/27/2010.

Filed Date: 08/27/2010.

Accession Number: 20100827-5081.

Comment Date: 5 p.m. Eastern Time on Friday, September 17, 2010.

Docket Numbers: ER10-2428-000.

Applicants: Wheat Field Wind Power Project LLC.

Description: Wheat Field Wind Power Project LLC submits tariff filing per 35.12: Wheat Field Wind Power Project LLC MBR Tariff to be effective 8/27/2010.

Filed Date: 08/27/2010.

Accession Number: 20100827-5087.

Comment Date: 5 p.m. Eastern Time on Friday, September 17, 2010.

Docket Numbers: ER10-2429-000.

Applicants: Southwest Power Pool, Inc.

Description: Southwest Power Pool, Inc. submits tariff filing per 35.13(a)(2)(iii): 1266R2 Kansas Municipal Energy Agency NITSA and NOA to be effective 8/1/2010.

Filed Date: 08/27/2010.

Accession Number: 20100827-5111.

Comment Date: 5 p.m. Eastern Time on Friday, September 17, 2010.

Docket Numbers: ER10-2430-000.

Applicants: Avista Corporation.

Description: Avista Corporation submits tariff filing per 35.12: Avista Corporation OATT Baseline Filing to be effective 8/27/2010.

Filed Date: 08/27/2010.

Accession Number: 20100827-5116.

Comment Date: 5 p.m. Eastern Time on Friday, September 17, 2010.

Docket Numbers: ER10-2431-000.

Applicants: Chanarambie Power Partners, LLC.

Description: Chanarambie Power Partners, LLC submits tariff filing per 35.12: Chanarambie Power Partners LLC Market-Based Rate Tariff Baseline Filing to be effective 8/27/2010.

Filed Date: 08/27/2010.

Accession Number: 20100827-5117.

Comment Date: 5 p.m. Eastern Time on Friday, September 17, 2010.

Docket Numbers: ER10-2432-000.

Applicants: Bayonne Plant Holding, LLC.

Description: Bayonne Plant Holding, LLC submits tariff filing per 35.12: Bayonne Plant Holding MBR and Reactive Power Tariffs to be effective 8/27/2010.

Filed Date: 08/27/2010.

Accession Number: 20100827-5121.

Comment Date: 5 p.m. Eastern Time on Friday, September 17, 2010.

Docket Numbers: ER10-2433-000.

Applicants: Northern States Power Company, a Minnesota.

Description: Northern States Power Company, a Minnesota corporation submits tariff filing per 35.13(a)(2)(iii): 2010-8-27_FirstRevVolNo3_Coversheet-CAPXAgmnt to be effective 8/18/2010.

Filed Date: 08/27/2010.

Accession Number: 20100827-5122.

Comment Date: 5 p.m. Eastern Time on Friday, September 03, 2010.

Take notice that the Commission received the following land acquisition reports:

Docket Numbers: LA10-2-000.

Applicants: Order 697-C 2010 2nd Qtr Site Acquisition.

Description: Notice of change in status and Q2 2010 land acquisition report of Baltimore Gas and Electric Company, et al.

Filed Date: 07/27/2010.

Accession Number: 20100727-5077.

Comment Date: 5 p.m. Eastern Time on Friday, September 17, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Nathaniel J. Davis, Sr.,
Deputy Secretary.

[FR Doc. 2010-22259 Filed 9-7-10; 8:45 am]

BILLING CODE 6717-01-P